ENVIRONMENTAL PROTECTION AGENCY

40 CFR Part 180

[EPA-HQ-OPP-2023-0069; FRL-10579-02-OCSPP]

Receipt of a Pesticide Petition Filed for Residues of Pesticide Chemicals in or on Various Commodities February 2023

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before April 24, 2023.

ADDRESSES: Submit your comments, identified by docket identification (ID) number EPA-HQ-OPP-2023-0069, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerances for Non-Inerts

PP 2F9021. EPA-HQ-OPP-2020-0250. BASF Corporation Agricultural Solutions, 26 Davis Drive; P.O. Box 13528, Research Triangle Park, NC 27709, requests to amend 40 CFR part 180.473 by modifying the tolerances for residues of Glufosinate to include residues of L-Glufosinate-ammonium, glufosinate-P-ammonium [(2S)-2-amino-4-(hydroxymethylphosphinyl) butanoic acid -monoammonium salt] as measured by the sum of glufosinate (2-amino-4-(hydroxymethylphosphinyl)butanoic acid) and its metabolites, 2- (acetylamino)-4-(hydroxymethyl phosphinyl) butanoic acid, and 3- (hydroxymethylphosphinyl) propanoic acid, expressed as 2-amino-4-(hydroxymethylphosphinyl)butanoic acid equivalents in or on, in or on canola, meal at 1.1 parts per million (ppm); cattle, fat at 0.40 ppm; cattle, meal at 0.15 ppm; cattle, meat byproducts at 6.0 ppm; corn, field, forage at 4.0 ppm; corn, field, grain at 0.20 ppm; corn, field, stover at 6.0 ppm; corn, sweet, forage at 1.5 ppm; corn, sweet, kernels plus cob with husks removed at 0.30 ppm; corn, sweet, stover at 6.0 ppm; cotton, gin byproducts at 30 ppm; cotton, seed, subgroup C at 15.00 ppm; egg at 0.15 ppm; goat, fat at 0.40 ppm; goat, meat at 0.15 ppm; goat, meat byproducts at 6.0 ppm; grain aspirated fractions at 25.00 ppm; hog, fat at 0.40 ppm; hog, meat at 0.15 ppm; hog, meat byproducts at 6.0 ppm; horse, fat at 0.40 ppm; horse, meat at 0.15 ppm; horse, meat byproducts at 6.0 ppm; milk at 0.15 ppm; poultry, fat at 0.15 ppm; poultry, meat at .15 ppm; poultry, meat byproducts at 0.60 ppm; rapeseed, subgroup 20A at 0.4 ppm; sheep, fat at 0.40 ppm; sheep, meat at 0.15 ppm; sheep, meat byproducts at 6.0 ppm; soybean at 2.0 ppm; soybean, hulls at 10.0 ppm and tolerances for indirect or inadvertent residues on barley, hay at 0.4 ppm; barley, straw at 0.4 ppm; buckwheat, fodder at 0.4 ppm; buckwheat, forage at 0.4 ppm; oat, forage at 0.4 ppm; oat, hay at 0.4 ppm; oat, straw at 0.4 ppm; rye, forage at 0.4 ppm; rye, straw at 0.4 ppm; teosinte at 0.4 ppm; triticale at 0.4 ppm; wheat, forage at 0.4 ppm; wheat, hay at 0.4 ppm; and wheat, straw at 0.4 ppm. The analytical methods water extraction, filtration, addition of an isotopically labeled internal standard followed by solid phase extraction and high-performance liquid chromatography-electrospray ionization/tandem mass spectrometry (LC/MS/MS) are used to measure and evaluate the chemical L-glufosinate ammonium. Contact: RD.

B. New Tolerance Exemptions for Inerts (Except PIPS)

1. PP IN-11504. EPA-HQ-OPP-2021-0173. Landis International, Inc. (3185 Madison Highway, Valdosta, GA 31603) on behalf of CJB Applied Technologies, LLC (1105 Innovation Way, P.O. Box 5724, Valdosta, GA 31603) requests to amend 40 CFR part 180.910 in order to permit benzyl alcohol (CAS Reg No. 100-51-6) as an adjuvant included in formulations of pre-harvest crop protection products at concentrations up to 60% of the formulation, and a tank mix-adjuvant added to pre-harvest spray mixtures that contain crop protection products. The petitioner believes no analytical method is needed because it is not required for an exemption from the requirement of a tolerance. Contact: RD.

2. PP IN-11624. EPA-HQ-OPP-2022-0942. Technology Sciences Group Inc. (1150 18th Street NW, Suite 1000, Washington, DC 20036, on behalf of Veto-Pharma (SAS12-14 Rue de la Croix-Martre 91120 Palaiseau, France), requests to establish an exemption from the requirement of a tolerance in 40 CFR 180.910 for residues of erucamide (CAS Reg. No.112-84-5) as a lubricant inert ingredient in pesticide formulations when applied on the raw agricultural commodities honey and honeycomb. The petitioner believes no analytical method is needed because it is not required for an exemption from the requirement of a tolerance. Contact: RD.

3. PP IN-11658. EPA-HQ-OPP-2023-0065. Exponent (980 9th Street, 16th Floor, Sacramento, CA 95814), On behalf of UPL NA Inc. (EPA Company Number 70506; 630 Freedom Business Center, Suite 402, King of Prussia, PA 19406), requests to establish an exemption from the requirement of a tolerance for residues of baicalin in both the anhydrous (CAS Reg. No. 21967-41-9) and hydrous (CAS Reg. No. 206752-33-2) forms, when used as a pesticide inert ingredient as a (stabilizer) in pesticide formulations under 40 CFR 180.920 at a maximum concentration of 10% in the end-use formulation. The petitioner believes no analytical method is needed because it is not required for an exemption from the requirement of a tolerance. Contact: RD.

C. New Tolerance Exemptions for Non-Inerts (Except PIPS)

1. PP 1F8927. EPA-HQ-OPP-2023-0008. Danisco US, Inc., 925 Page Mill Road, Palo Alto, CA 94304, requests to establish exemptions from the requirement of a tolerance in 40 CFR part 180 for residues of the fungicide, bactericide and nematicide Gluconobacter cerinus strain BC18B and Hanseniaspora uvarum strain BC18Y in or on all food commodities. The petitioner believes no analytical method is needed because a petition from the required tolerance is being proposed. Contact: BPPD.

2. PP 1F8955. EPA-HQ-OPP-2023-0143. Marrone Bio Innovations, D/B/A Marrone Bio Innovations, Inc., 1540 Drew Avenue, Davis, CA 95618, requests to establish an exemption from the requirement of a tolerance in 40 CFR part 180 for residues of the insecticide, fungicide, miticide, and nematicide inactivated Burkholderia rinojensis A396 cells and spent fermentation media in or on all agricultural commodities. The petitioner believes no analytical method is needed because a petition for exemption from a tolerance is being submitted. Contact: BPPD.

3. PP 2F8991. EPA-HQ-OPP-2023-0083. BioConsortia, Inc., 279 Cousteau Place, Davis, CA 95618, requests to establish an exemption from the requirement of a tolerance in 40 CFR part 180 for residues of the fungicide and bactericide Bacillus velenzensis strain 11604 in or on all food and feed commodities. The petitioner believes no analytical method is needed because a petition from the required tolerance is being proposed. Contact: BPPD.

4. PP 2F9017. EPA-HQ-OPP-2023-0146. UPL NA Inc., 630 Freedom Business Center, Suite 402, King of Prussia, PA 19406, requests to establish an exemption from the requirement of a tolerance in 40 CFR part 180 for residues of the insecticide and nematicide Bacillus licheniformis strain 414-01 in or on all raw agricultural commodities. The petitioner believes no analytical method is needed because of the lack of toxicity and pathogenicity demonstrated in the available toxicological data. Contact: BPPD.

D. New Tolerance Exemptions for PIPS

IN 11746. EPA-HQ-OPP-2022-0990. Pioneer Hi-Bred International, Inc., 7100 NW 62nd Avenue, P.O. Box 1000, Johnston, Iowa 50131, requests to establish an exemption from the requirement of a tolerance in 40 CFR part 174 for residues of the plant-incorporated protectant (PIP) inert ingredient DGT-28 EPSPS protein derived from Streptomyces sviceus in or on maize. The analytical method a validated ELISA was used to determine the concentration of DGT-28 EPSPS protein in maize tissues, including grain and forage is available to EPA for the detection and measurement of the inert residues. Contact: BPPD.

E. New Tolerances for Non-Inerts

1. PP 0F8857. EPA-HQ-OPP-2021-0290. This posting is amending the previous NOF dated October 21, 2021, by announcing commodities that were not included in the previous NOF. Taminco US LLC, a subsidiary of Eastman Chemical Company, 200 S Wilcox Drive, Kingsport, TN 37660-5147, requests to establish a tolerance in 40 CFR part 180 for residues of the plant growth regulator chlormequat chloride in or on Aspirated grain fractions (AGF) at 30 ppm; barley, hay at 90 ppm; barley, straw at 50 ppm; horse, meat byproducts at 1 ppm; horse, meat at 0.2 ppm; oat, forage at 15 ppm; oat, hay at 100 ppm; oat, straw at 50 ppm; wheat, bran at 15 ppm; wheat, germ at 20 ppm; wheat, forage at 30 ppm; wheat, hay at 90 ppm; and wheat, straw at 80 ppm. The validated LC/MS/MS method is used to measure and evaluate the chemical residues of chlormequat chloride in plants and animal products. Contact: OPP-RD.

2. PP 1E8945. EPA-HQ-OPP-2021-0853. Corteva Agriscience, 9330 Zionsville Rd., Indianapolis, IN 46268, requests to establish a tolerance in 40 CFR part 180 for residues of the insecticide, sulfoxaflor, in or on the raw agricultural commodity coffee, green bean at 0.3 ppm and coffee, instant at 0.5 ppm. The LC/MS/MS analysis is used to measure and evaluate the chemical sulfoxaflor, 1-(6-trifluoromethylpyridin-3-yl) ethyl(methyl)-oxido-l4-sulfanylidenecyanamide. Contact: RD.

3. PP2F8983.EPA-HQ-OPP-2022-0354.Valent U.S.A. LLC, 4600 Norris Canyon Road, P.O. Box 5075, San Ramon, CA 94583, requests to establish a tolerance in 40 CFR part 180 for residues of theherbicide epyrifenacil in or oncanola, seed at0.005 ppm; corn, field, forage at 0.01 ppm; corn, field, stover at 0.01 ppm; corn, field, seed at 0.005 ppm; corn, field, hulls at 0.005 ppm; corn, field, meal at 0.005 ppm; soybean, forage at 0.01 ppm; soybean, hay at 0.01 ppm; soybean, seed at 0.005 ppm; soybean, hulls at 0.005 ppm; soybean, meal at 0.005 ppm; wheat, seed at 0.005 ppm; wheat, forage at 0.01 ppm; wheat, hay at 0.01 ppm; wheat, straw at 0.01 ppm; wheat, bran at 0.005 ppm; wheat, flour at 0.005 ppm; wheat, middlings at 0.005 ppm; wheat, shorts at 0.005 ppm; and wheat, germ at 0.005 ppm. Thehigh-performance LC/MS/MS methods are used to measure and evaluate the chemicalepyrifenacil (S-3100). Contact: RD.

Authority: 21 U.S.C. 346a.

Dated: March 20, 2023.
Delores Barber,
Director, Information Technology and Resources Management Division, Office of Program Support.

[FR Doc. 2023-06112 Filed 3-23-23; 8:45 am]

BILLING CODE 6560-50-P